DEPARTMENT OF COMMERCE

National Oceanic and Atmospheric Administration

[RTID 0648-XA731]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Tilefish Monitoring Committee (MC) will hold a public meeting.

DATES: The meeting will be held on Tuesday, March 16, 2021, from 10 a.m. to 11:30 a.m. For agenda details, see SUPPLEMENTARY INFORMATION.

ADDRESSES: The meeting will be held via webinar, which can be accessed at: http://mafmc.adobeconnect.com/tf2021mc/. Meeting audio can also be accessed via telephone by dialing 1-800-832-0736 and entering room number 5068609.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this meeting is for the Tilefish MC to set blueline tilefish specifications for 2022-24. The MC will review annual catch limits, trip limits, discard estimates, and other management measures for the blueline tilefish fishery.

Special Accommodations

The meeting is physically accessible to people with disabilities. Requests for sign language interpretation or other auxiliary aids should be directed to M. Jan Saunders at the Mid-Atlantic Council Office, (302) 526-5251, at least 5 days prior to the meeting date.

Authority: 16 U.S.C. 1801 et seq.

Dated: January 11, 2021.
Rey Israel Marquez,
Acting Deputy Director, Office of Sustainable Fisheries, National Marine Fisheries Service.

[FR Doc. 2021-00715 Filed 1-13-21; 8:45 am]

BILLING CODE 3510-22-P